DEPARTMENT OF JUSTICE

Antitrust Division

Notice Pursuant to the National Cooperative Research and Production Act of 1993—The Open Group, L.L.C.

Notice is hereby given that, on August 6, 2019, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, 6point6 Limited, London, UNITED KINGDOM; Acromag, Inc., Wixom, MI; Altran Technologies, SA, Paris, FRANCE; Baker Hughes, Houston, TX; Beijing JCC Information Consulting Co., Ltd., Beijing, PEOPLE'S REPUBLIC OF CHINA; Cepsa, Madrid, SPAIN; Concho Resources, Midland, TX; Concurrent Technologies, Inc., Woburn, MA; Dubai Customs, Dubai, UNITED ARAB EMIRATES; Dynamic Graphics, Inc., Alameda, CA; EPAM Systems, Inc., Newton, PA; FEI-Elcom Tech, Inc., Northvale, NJ; Flare Solutions Limited, Portsmouth, UNITED KINGDOM; GamingWorks BV, Bodegraven, THE NETHERLANDS; Geophysical Insights, Houston, TX; ikon Science Limited, London, UNITED KINGDOM; Interica Ltd., Lewes, UNITED KINGDOM; Larsen & Toubro Infotech Ltd., Edison, NJ; Logic Solutions Group LLC, Houston, TX; Macro Services Solutions, Bogota, COLOMBIA; OAG Analytics, Inc., Houston, TX; Oliasoft AS, Oslo, NORWAY; Orion Technologies, Orlando, FL; Osokey Ltd., Henley-on-Thames, UNITED KINGDOM; PGS Geophysical AS, Oslo, NORWAY; PricewaterhouseCoopers LLP, Toronto, CANADA; Quantico Energy Solutions, Inc., Houston, TX; RDRTec, Inc., Roebling, NJ; Reflex Photonics Corp., Bethlehem, PA; Searcher Seismic Geodata Pty Ltd., West Perth, AUSTRALIA; Security Compass, Ontario, CANADA; Softserve Inc., Austin, TX; Stratus Technologies, Inc., Maynard, MA; Taipei City Government Department of Information Technology, Taipei City, TAIWAN; The University of Oslo, Oslo, NORWAY; Triton Data Services, Houston, TX; VITA, Oklahoma City, OK; XMPro Inc., Dallas, TX; and Ypto NV, Anderlecht, BELGIUM, have been added as parties to this venture.

Also, Azbil Corporation, Tokyo, JAPAN; Bayer Business Services GmbH, Leverkusen, GERMANY; BusinessNow, Søborg, DENMARK; CXODynamix Business Solutions (PTY) Ltd., Centurio Pretoria, SOUTH AFRICA; DHBW, Stuttgart, GERMANY; Digileaf, Inc., Makati City, PHILIPPINES; Japan Aerospace Exploration Agency, Tsukuba, JAPAN; New Zealand Department of Internal Affairs, Wellington, NEW ZEALAND; PMH IT Management & Services, Pty., Ltd., Groblersdal, SOUTH AFRICA; Reserve Bank of New Zealand, Wellington, NEW ZEALAND; Shanghai NorthUniverse Enterprise Management Consulting Co., Ltd., Shanghai, PEOPLE'S REPUBLIC OF CHINA; SMME, Leuven, BELGIUM; Technology Service Corporation, Turnbull, CT; Vedanta Group, Gurgaon, INDIA; and VIStology, Inc., Framingham, MA, have withdrawn as parties to this venture.

In addition, Vector Software Inc. has changed its name to Vector North America, East Greenwich, RI.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on May 24, 2019. A notice was published in the Federal Register pursuant to Section 6(b) of the Act on June 17, 2019 (84 FR 28072).

Suzanne Morris,
Chief, Premerger and Division Statistics Unit, Antitrust Division.

[FR Doc. 2019-17604 Filed 8-15-19; 8:45 am]

BILLING CODE 4410-11-P